DEPARTMENT OF COMMERCE

National Oceanic and Atmospheric Administration

RIN 0648-XC039

Pacific Fishery Management Council; Public Meeting

AGENCY: National Marine Fisheries Service (NMFS), National Oceanic and Atmospheric Administration (NOAA), Commerce.

ACTION: Notice of public meetings.

SUMMARY: The Pacific Fishery Management Council's (Pacific Council) Habitat Committee (HC) will hold a meeting, which is open to the public, to discuss habitat issues related to Council-managed fisheries.

DATES: The work session will be held Tuesday, June 12, 2012 from 8:30 a.m. to 5 p.m. or until business for the day is completed.

ADDRESSES: The meeting will be held at the Pacific Council Office, 7700 NE Ambassador Place, Suite 101, Portland, OR 97220-1384; telephone: (503) 820-2280.

FOR FURTHER INFORMATION CONTACT: Ms. Jennifer Gilden, Associate Staff Officer, Pacific Council; telephone: (503) 820-2280.

SUPPLEMENTARY INFORMATION: The purpose of the meeting is to discuss habitat issues related to Council-managed fisheries, including Columbia River fisheries issues, the NOAA Habitat Blueprint, and the Council's development of a Fishery Ecosystem Plan. The HC may also discuss forage fish issues, Army Corps of Engineers levee vegetation policies, ocean energy proposals, and Klamath River water issues. A report is scheduled to be presented to the Pacific Council at the June, 2012 Council meeting in San Mateo, CA.

Although non-emergency issues not contained in the meeting agenda may come before the HC for discussion, those issues may not be the subject of formal HC action during this meeting. HC action will be restricted to those issues specifically listed in this notice and any issues arising after publication of this notice that require emergency action under section 305(c) of the Magnuson-Stevens Fishery Conservation and Management Act, provided the public has been notified of the HC's intent to take final action to address the emergency.

Special Accommodations

This meeting is physically accessible to people with disabilities. Requests for sign language interpretation or other auxiliary aids should be directed to Mr. Kris Kleinschmidt at (503) 820-2280 at least 5 days prior to the meeting date.

Dated: May 21, 2012.
Tracey L. Thompson,
Acting Director, Office of Sustainable Fisheries, National Marine Fisheries Service.

[FR Doc. 2012-12676 Filed 5-24-12; 8:45 am]

BILLING CODE 3510-22-P